DEPARTMENT OF VETERANS AFFAIRS

[OMB Control No. 2900-(VA Form 20-0968)]

Claim for Reimburse of Travel Expenses Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each new collection and allow 60 days for public comment in response to the notice. This notice solicits comments on the information needed to provide beneficiary travel benefits under 38 CFR 21.370 through 21.376.

DATES: Written comments and recommendations on the proposed collection of information should be received on or before December 5, 2014.

ADDRESSES: Submit written comments on the collection of information through the Federal Docket Management System (FDMS) at www.Regulations.gov; or to Nancy J. Kessinger, Veterans Benefits Administration (20M35), Department of Veterans Affairs, 810 Vermont Avenue NW., Washington, DC 20420 or email to nancy.kessinger@va.gov. Please refer to “OMB Control No. 2900-(VA Form 20-0968)” in any correspondence. During the comment period, comments may be viewed online through FDMS.

FOR FURTHER INFORMATION CONTACT: Nancy J. Kessinger at (202) 632-8924 or FAX (202) 632-8925.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Quarterly Report of State Approving Agency Activities.

OMB Control Number: 2900-(VA Form 20-0968).

Type of Review: New collection.

Abstract: The purpose of the information collection is for claimants to apply for the mileage reimbursement benefit in an efficient, convenient and accurate manner. VBA must determine the identity of the claimant; the dates and length of the trip being claimed, based on the claimant's residence and the place of evaluation and counseling, or other place in connection with vocational rehabilitation; and whether expenses other than mileage are being claimed.

Affected Public: Federal government.

Estimated Annual Burden: 10,750 hours.

Estimated Average Burden per Respondent: 5 minutes.

Frequency of Response: Once.

Estimated Number of Responses: 129,000.

Dated: October 1, 2014.
By direction of the Secretary.
Crystal Rennie,
Department Clearance Officer, Department of Veterans Affairs.

[FR Doc. 2014-23738 Filed 10-3-14; 8:45 am]

BILLING CODE 8320-01-P